DEPARTMENT OF COMMERCE

National Oceanic and Atmospheric Administration

[I.D.032301D]

Endangered and Threatened Species; Take of Anadromous Fish

AGENCY: National Marine Fisheries Service (NMFS), National Oceanic and Atmospheric Administration (NOAA), Commerce.

ACTION: Notice of availability and request for comment.

SUMMARY: The Washington Department of Fish and Wildlife (WDFW) has submitted four Hatchery and Genetic Management Plans (HGMP) for Salmon Creek, Chimacum Creek, Jimmycomelately Creek, and Big Beef Creek summer chum salmon pursuant to the protective regulations promulgated for Hood Canal summer-run chum salmon under the Endangered Species Act (ESA). The U.S. Fish and Wildlife Service (USFWS) has submitted four HGMPs for Quilcene River, Hamma Hamma River, Lilliwaup Creek, and Union River summer chum salmon pursuant to the same ESA rule. The WDFW and USFWS HGMPs describe artificial propagation programs designed to increase the abundance of listed, indigenous summer chum salmon stocks. The WDFW HGMPs include two programs designed to reintroduce summer chum salmon into watersheds where populations have been extirpated. This document serves to notify the public of the availability of the HGMPs for review and comment before a final approval or disapproval is made by NMFS.

DATES: Written comments on the draft HGMPs must be received no later than 5 p.m. Pacific Standard Time on May 3, 2001.

ADDRESSES: Written comments and requests for copies of the draft HGMPs should be addressed to Tim Tynan, Sustainable Fisheries Division, National Marine Fisheries Service, 510 Desmond Drive, Suite 103, Lacey, Washington 98503. Comments may also be sent via fax to 360/753-9517. The documents are also available on the internet at http://www.nwr.noaa.gov/, Sustainable Fisheries Division site. Comments will not be accepted if submitted via e-mail or the internet.

FOR FURTHER INFORMATION CONTACT: Tim Tynan at phone number: 360/753-9579, or e-mail: tim.tynan@noaa.gov regarding the HGMPs.

SUPPLEMENTARY INFORMATION: This notice is relevant to the Hood Canal summer-run chum salmon (Oncorhynchus keta) and Puget Sound chinook salmon (Oncorhynchus tshawytscha) Evolutionarily Significant Units (ESU).

Background

The Salmon Creek HGMP submitted by WDFW describes an artificial propagation program that proposes to take up to 130 natural and hatchery-origin summer chum salmon adults as broodstock and produce 123,000 juvenile fish of the native stock for rearing in Salmon Creek and release into adjacent marine waters annually. The program also proposes to take up to 110 additional adult summer chum salmon as broodstock to provide gametes for summer chum salmon reintroduction into Chimacum Creek, a neighboring watershed where summer chum salmon have been extirpated. The purposes of the program are: (1) to preserve and increase the abundance of the local, indigenous stock of summer chum salmon; (2) to assist in restoring natural spawning escapement to historical levels, (3) to provide broodstock for the reintroduction of summer chum salmon into Chimacum Creek; and (4) to monitor and evaluate the effectiveness of the supplementation program.

The Chimacum Creek HGMP submitted by WDFW describes an artificial propagation program that proposes to use gametes spawned from 110 Salmon Creek stock natural and hatchery-origin summer chum salmon to produce 86,000 juvenile fish of the transferred stock for rearing in the Chimacum Creek watershed and release into adjacent marine waters annually. The purposes of the program are: (1) to reintroduce summer chum salmon into a watershed where the native population has been extirpated, using transferred local stock; (2) to restore a healthy, natural, self-sustaining population of summer chum salmon in Chimacum Creek that will maintain the genetic characteristic of the native donor stock; and (3) to monitor adult returns from the initial releases and evaluate the natural spawning success of these adults.

The Jimmycomelately Creek HGMP submitted by WDFW describes an artificial propagation program that proposes to take 100 percent of the returning summer chum salmon adults as broodstock for artificial propagation as an emergency measure for an extremely small population identified as at immediate risk of extinction. This emergency measure will be continued until the population rebounds to annual return levels greater than 100 spawners. Up to 86,000 juvenile fish of the native stock are proposed to be released in Jimmycomelately Creek annually. The purposes of the program are: (1) to initiate a supplementation program using the indigenous summer chum broodstock, thus retaining future options for recovery of the population; (2) to increase the numbers of naturally produced fish by developing and maintaining a population comprised of supplemented and naturally spawning fish using hatchery and wild-origin broodstock; and (3) to monitor and evaluate the effectiveness of the supplementation program.

The Big Beef Creek HGMP submitted by WDFW describes an artificial propagation program that proposes to use gametes spawned from 100 Quilcene stock natural and hatchery-origin summer chum salmon adults to produce 103,000 juvenile fish for release into Big Beef Creek annually. An artificial spawning channel is also proposed to enhance the productivity of naturally spawning adults returning to the creek as a result of transferred fish releases. The purposes of the program are: (1) to reintroduce summer chum salmon into a watershed where the native population has been extirpated, using transferred local stock; (2) to restore a healthy, natural, self-sustaining population of summer chum salmon in Big Beef Creek that will maintain the genetic characteristic of the native donor stock; (3) to identify and compare wild and hatchery-origin chum spawner productivity, and survival from out-migration to adult return; and (4) to monitor and evaluate the effectiveness of the reintroduction program.

The Quilcene River HGMP submitted by USFWS describes an artificial propagation program that proposes to take up to 400 natural and hatchery-origin summer chum salmon adults as broodstock and produce 373,000 juvenile fish of the native stock for release into the Big Quilcene River annually. The program also proposes to take up to 100 additional summer chum salmon as broodstock to provide gametes for reintroduction into Big Beef Creek, a neighboring Hood Canal watershed where summer chum salmon have been extirpated. The purposes of the program are: (1) to preserve and increase the abundance of the local, indigenous stock of summer chum salmon; (2) to assist in restoring natural spawning escapement to historical levels; (3) to provide broodstock for the reintroduction of summer chum salmon into Big Beef Creek; (4) to identify and compare wild and hatchery-origin chum spawner productivity, and survival from out-migration to adult return; and (5) to monitor and evaluate the effectiveness of the program.

The Hamma Hamma River HGMP submitted by USFWS describes an artificial propagation program that proposes to take up to 100 natural and hatchery-origin summer chum salmon adults as broodstock and produce up to 125,000 juvenile fish of the native stock for release into the Hamma Hamma River annually. The purposes of the program are: (1) to preserve and increase the abundance of the local, indigenous stock of summer chum salmon; (2) to assist in restoring natural spawning escapement to historical levels; and (3) to monitor and evaluate the effectiveness of the supplementation program.

The Lilliwaup Creek HGMP submitted by USFWS describes an artificial propagation program that proposes to take 100 percent of the returning adult summer chum as broodstock for artificial propagation as an emergency measure for an extremely small population identified as at immediate risk of extinction. This emergency measure will be continued until the population rebounds to annual return levels greater than 100 spawners. Up to 50,000 juvenile fish of the native stock will be produced for release in Lilliwaup Creek annually. The purposes of the program are: (1) to conduct a supplementation program using the indigenous summer chum broodstock, thus retaining future options for recovery of the population; (2) to increase the numbers of naturally produced fish by developing and maintaining a population comprised of supplemented and naturally spawning fish using hatchery and wild-origin broodstock; and (3) to monitor and evaluate the effectiveness of the supplementation program.

The Union River HGMP submitted by USFWS describes an artificial propagation program that proposes to take up to 97 natural and hatchery-origin summer chum salmon adults as broodstock and produce 86,000 juvenile fish of the native stock for release into the Union River annually. The purposes of the program are: (1) to initiate a supplementation program using the indigenous summer chum broodstock; (2) to increase the numbers of naturally produced fish by developing and maintaining a population comprised of supplemented and naturally spawning fish using hatchery and wild-origin broodstock; (3) to monitor and evaluate the effectiveness of the supplementation program; and (4) (when adult returns have been increased to appropriate levels) to provide broodstock for the reintroduction of summer chum salmon into the Tahuya River, a neighboring Hood Canal watershed where summer chum salmon have been extirpated.

As specified in § 223.203 (b)(5) of the ESA 4(d) rule, NMFS may approve an HGMP if it meets criteria set forth in § 223.203 (b)(5((i)(A) through (K). Prior to final approval of an HGMP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activity associated with artificial propagation provided that a state or Federal HGMP has been approved by NMFS to be in accordance with the salmon and steelhead 4(d) rule (65 FR 42422, July 10, 2000).

Dated: March 28, 2001.
Phil Williams,
Acting Chief, Endangered Species Division, Office of Protected Resources, National Marine Fisheries Service.

[FR Doc. 01-8165 Filed 4-2-01; 8:45 am]

BILLING CODE 3510-22-S